DEPARTMENT OF STATE

[Public Notice 7473]

Shipping Coordinating Committee; Notice of Committee Meeting

The Shipping Coordinating Committee (SHC) will conduct an open meeting at 1 p.m. on Thursday, July 21, 2011, in Room 5-1224 of the United States Coast Guard Headquarters Building, 2100 Second Street, SW., Washington, DC 20593-0001. The primary purpose of the meeting is to prepare for the fifty fourth Session of the International Maritime Organization's (IMO) Subcommittee on Stability and Load Lines and on Fishing Vessels Safety (SLF) to be held at the IMO Headquarters, United Kingdom, January 16-20, 2012.

The primary matters to be considered include:

—Adoption of the agenda.

—Decisions of other IMO bodies.

—Development of second generation intact stability criteria

—Development of performance standards on time-dependent survivability of passenger ships in damaged condition.

— Development of guidelines for verification of damage stability requirements for tankers.

—Revision of the damage stability regulations for ro-ro passenger ships.

—Development of amendments to SOLAS chapter II-1 subdivision standards for cargo ships.

—Revision of SOLAS chapter II-1 subdivision and damage stability regulations.

—Development of provisions to ensure the integrity and uniform implementation of the 1969 TM Convention.

—Development of amendments to part B of the 2008 IS Code on towing and anchor operations.

—Consideration of IACS unified interpretations.

—Development of amendments to the criterion for maximum angle of heel in turns of the 2008 IS Code.

—Development of amendments to SOLAS regulation II-1/4 concerning subdivision standards for cargo ships.

—Biennial agenda and provisional agenda for SLF 55.

—Election of Chairman and Vice-Chairman for 2013.

—Any other business.

—Report to the Maritime Safety Committee.

—Consideration of the report of the Committee on its fifty fourth session.

Members of the public may attend this meeting up to the seating capacity of the room. To facilitate the building security process, and to request reasonable accommodation, those who plan to attend should contact the meeting coordinator, LCDR Catherine Phillips, by e-mail at Catherine.A.Phillips@uscg.mil, by phone at (202) 372-1374, by fax at (202) 372-1925, or in writing at Commandant (CG-5212), U.S. Coast Guard, 2100 2nd Street, SW., Stop 7126, Washington, DC 20593-7126 not later than July 14, 2011, 7 days prior to the meeting. Requests made after July 14, 2011 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: June 14, 2011.
Greg O'Brien,
Shipping Coordinating Committee, Department of State.

[FR Doc. 2011-15627 Filed 6-21-11; 8:45 am]

BILLING CODE 4710-09-P